ENVIRONMENTAL PROTECTION AGENCY

40 CFR Part 180

[EPA-HQ-OPP-2014-0194; FRL-9910-45]

RIN 2070-ZA16

Amitraz, Carfentrazone-ethyl, Ethephon, Malathion, Mancozeb, et al.; Proposed Tolerance Actions

AGENCY: Environmental Protection Agency (EPA).

ACTION: Proposed rule.

SUMMARY: EPA is proposing to revoke certain tolerances for the fungicides spiroxamine and triflumizole, the herbicides carfentrazone-ethyl and quizalofop ethyl; the insecticides amitraz, oxamyl, propetamphos, and spinosad; and the plant growth regulators ethephon and mepiquat. In addition, EPA is proposing to revoke the tolerance on rice straw for multiple active ingredients. Also, EPA is proposing to modify certain tolerances for the fungicides mancozeb, thiram, and triflumizole; and the insecticide malathion. In addition, EPA is proposing to establish new tolerances for the fungicide mancozeb. Also, in accordance with current Agency practice, EPA is proposing to make minor revisions to the tolerance expression for malathion, mepiquat, and thiram.

DATES: Comments must be received on or before September 9, 2014.

ADDRESSES: Submit your comments, identified by docket identification (ID) number EPA-HQ-OPP-2014-0194, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Joseph Nevola, Pesticide Re-Evaluation Division (7508P), Office of Pesticide Programs, Environmental Protection Agency, 1200 Pennsylvania Ave. NW., Washington, DC 20460-0001; telephone number: (703) 308-8037; email address: nevola.joseph@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What can I do if I wish the agency to maintain a tolerance that the agency proposes to revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under the Federal Food, Drug, and Cosmetic Act (FFDCA) section 408(f), if needed. The order would specify data needed and the timeframes for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What action is the agency taking?

EPA is proposing to revoke, modify, and establish specific tolerances for residues of the fungicides mancozeb, spiroxamine, thiram, and triflumizole; the herbicides carfentrazone-ethyl and quizalofop ethyl; the insecticides amitraz, malathion, oxamyl, propetamphos, and spinosad; and the plant growth regulators ethephon and mepiquat in or on commodities listed in the regulatory text. In addition, EPA is proposing to revoke the tolerances on rice straw for multiple active ingredients because it is no longer considered by the Agency to be a significant feed item.

Also, EPA is proposing to make minor revisions to the tolerance expressions for malathion, mepiquat, and thiram in accordance with current Agency practice to describe more clearly the measurement of residues for tolerances and coverage of metabolites and degradates of a pesticide by the tolerances. The revisions to the tolerance expressions do not substantively change the tolerance or, in any way, modify the permissible level of residues permitted by the tolerances.

EPA is proposing to revoke certain tolerances because they are no longer needed or are associated with food uses that are no longer registered under the Federal Insecticide, Fungicide, and Rodenticide Act (FIFRA).

The proposed tolerance actions for mancozeb and malathion are consistent with the recommendations in their Reregistration Eligibility Decisions (REDs) of 2005 and 2009, respectively. As part of the tolerance reassessment process, EPA is required to determine whether each of the amended tolerances meets the safety standard of FFDCA. The safety finding determination of “reasonable certainty of no harm” is discussed in detail in each RED. REDs recommend the implementation of certain tolerance actions, including modifications to reflect current use patterns, meet safety findings, and change commodity names and groupings in accordance with new EPA policy. Printed copies of many REDs may be obtained from EPA's National Service Center for Environmental Publications (EPA/NSCEP), P.O. Box 42419, Cincinnati, OH 45242-2419; telephone number: 1-800-490-9198; fax number: 1-513-489-8695; Internet at http://www.epa.gov/ncepihom and from the National Technical Information Service (NTIS), 5285 Port Royal Rd., Springfield, VA 22161; telephone number: 1-800-553-6847 or (703) 605-6000; Internet at http://www.ntis.gov. Electronic copies are available on the Internet for the malathion and mancozeb REDs in dockets EPA-HQ-OPP-2004-0348 and EPA-HQ-OPP-2005-0176, respectively, at http://www.regulations.gov and at http://www.epa.gov/pesticides/reregistration/status.htm.

In REDs, Chapter IV on risk management, reregistration, and tolerance reassessment typically describes the regulatory position, cumulative safety determination, determination of safety for U.S. general population, and safety for infants and children. In particular, the human health risk assessment document which supports the RED describes risk exposure estimates and whether the Agency has concerns. EPA also seeks to harmonize tolerances with international standards set by the Codex Alimentarius Commission, as described in Unit III.

Explanations for proposed modifications in tolerances can be found in the RED document and in more detail in the Residue Chemistry Chapter document which supports the RED. Copies of the Residue Chemistry Chapter documents are found in the Administrative Record and electronic copies for malathion and mancozeb can be found under their respective docket ID numbers, identified in Unit II.A. Electronic copies of other support documents (including explanations for proposed modifications in triflumizole tolerances) are available through EPA's electronic docket and comment system, regulations.gov at http://www.regulations.gov. You may search for this proposed rule under docket ID number EPA-HQ-OPP-2014-0194, then click on that docket ID number to view its contents.

EPA had determined at the time of the RED that the aggregate exposures and risks are not of concern for the above mentioned pesticide active ingredients based upon the data identified in the RED which lists the submitted studies that the Agency found acceptable.

EPA has found that the tolerances that are proposed in this document to be modified, are safe; i.e., that there is a reasonable certainty that no harm will result to infants and children from aggregate exposure to the pesticide chemical residues, in accordance with FFDCA section 408(b)(2)(C). (Note that changes to tolerance nomenclature do not constitute modifications of tolerances). These findings are discussed in detail in each RED. The references are available for inspection as described in this document under SUPPLEMENTARY INFORMATION.

In addition, it is EPA's general practice to propose revocation of those tolerances for residues of pesticide active ingredients on crop uses for which there are no active registrations under FIFRA, unless any person in comments on the proposal indicates a need for the tolerance to cover residues in or on imported commodities or legally treated domestic commodities.

EPA is proposing to revoke specific tolerances for residues of mepiquat and triflumizole because the Agency has concluded that there is no reasonable expectation of finite residues in or on the commodities associated with the tolerances, and therefore these tolerances are no longer needed.

The determinations that there are no reasonable expectations of finite residues for the tolerances listed in this document were made based on feeding studies submitted since the time that the tolerances were originally established. These feeding studies used exaggerated amounts of the compound and did not show measurable residues of the pesticide active ingredient tested. The Agency made the determination that there is no reasonable expectation of finite residues for the pesticides active ingredient/commodity combinations listed in this proposal in memoranda of July 30, 2001 for mepiquat and October 1, 2008 for triflumizole. Copies of these memoranda can be found in the docket for this proposed rule. Because EPA determined that there is no reasonable expectation of finite residues, under 40 CFR 180.6 the tolerances are no longer needed under FFDCA and can be proposed for revocation.

1. Multiple active ingredients. EPA has determined that rice straw is no longer a significant feed item in the United States, and therefore the tolerance is no longer needed and should be revoked. (The document entitled “OPPTS Test Guideline 860.1000 Supplement: Guidance on Constructing Maximum Reasonably Balanced Diets (MRBD)” is available at http://www.regulations.gov under docket ID number EPA-HQ-OPPT-2009-0155). Consequently, EPA is proposing to revoke the tolerances for rice, straw in 40 CFR 180.142(a) for 2,4-D; 180.169(a)(1) for carbaryl; 180.205(a) for paraquat; 180.274(a) for propanil; 180.288(a) for 2-(thiocyanomethylthio)benzothiazole; 180.293(a)(1) for endothall; 180.301(a) for carboxin; 180.355(a)(1) for bentazon; 180.361(a) for pendimethalin; 180.377(a)(2) for diflubenzuron; 180.383(a) for sodium salt of acifluorfen; 180.399(a)(1) for iprodione; 180.401(a) for thiobencarb; 180.417(a)(1) for triclopyr; 180.418(a)(2) for zeta-cypermethrin; 180.425(a) for clomazone; 180.434(a) for propiconazole; 180.438(a)(1) for lambda-cyhalothrin; 180.438(a)(2) for gamma-cyhalothrin and its epimer; 180.439(a) for thifensulfuron methyl; 180.445(a) for bensulfuron methyl; 180.447(a)(2) for imazethapyr; 180.451(a) for tribenuron methyl; 180.463(a)(1) for quinclorac; 180.473(a) for glufosinate ammonium; 180.479(a)(2) for halosulfuron-methyl; 180.484(a) for flutolanil; 180.507(a)(1) for azoxystrobin; 180.517(a) for fipronil; 180.555(a) for trifloxystrobin; 180.570(a)(2) for isoxadifen-ethyl; 180.577(a) for bispyribac-sodium; 180.605(a) for penoxsulam; and 180.625(a) for orthosulfamuron.

2. Amitraz. There have been no active U.S. registrations for use of amitraz on cotton since May 3, 2006 and the manufacturer, Arysta Life Sciences, notified EPA in July 2011 that it no longer is interested in supporting the tolerance for amitraz use on cotton, undelinted seed for import purposes. The tolerance is no longer needed and therefore should be revoked. Consequently, EPA is proposing to revoke the tolerance for amitraz in 40 CFR 180.287(a) on cotton, undelinted seed.

3. Carfentrazone-ethyl. Because the first cotton processing study submitted by the registrant was conducted at 1.0x the seasonal application rate and resulted in residues less than the Limit of Quantitation (LOQ) of 0.05 ppm, EPA requested that a processing study be conducted at an application rate sufficient to generate residues in/on cottonseed and set tolerances for cotton hulls, meal, and oil using theoretical processing factors and the highest average cottonseed field trial residue. Based on an available second processing study conducted at 2.0x the seasonal application rate, which showed that carfentrazone-ethyl residues of concern in or on cottonseed were detected (Limit of Detection 0.015-0.020 ppm) but were less than the LOQ of 0.05 ppm, EPA determined that the tolerances for carfentrazone-ethyl residues of concern are no longer needed on cottonseed hull, meal, and oil and therefore should be revoked. Consequently, EPA is proposing to revoke the tolerances for carfentrazone-ethyl in 40 CFR 180.515(a) on cotton, hulls; cotton, meal; and cotton, refined oil.

Because uses supported by the carfentrazone-ethyl tolerance for caneberry subgroup 13A at 0.1 ppm are covered by the tolerance for berry group 13 at 0.10 ppm, there is no longer any need for the separate subgroup tolerance and therefore it should be revoked. In addition, because EPA no longer considers rice straw to be a significant feed item, the tolerance is no longer needed and should be revoked. Consequently, EPA is proposing to revoke the tolerances for carfentrazone-ethyl in 40 CFR 180.515(a) on caneberry subgroup 13A and rice, straw.

4. Ethephon. Because the last product label amendment has been completed which limits the use of ethephon to cucumbers grown for seed production only and restricts the harvesting of treated cucumbers for human or animal consumption, a food tolerance for ethephon is no longer needed and therefore should be revoked. Consequently, EPA is proposing to revoke the tolerance for ethephon in 40 CFR 180.300(a) on cucumber.

5. Malathion. EPA is proposing to modify the plant tolerance commodity levels for certain existing malathion tolerances in 40 CFR 180.111(a)(1) based on available field trial data and product label changes. Currently, those tolerances are established for residues of malathion. However, as stated in the 2009 amended RED for malathion, based on available plant metabolism data, EPA determined that the residues of concern in plants consist of malathion and its metabolite, malaoxon, and therefore the tolerance expression for plant commodities should be revised. Because EPA is not proposing to modify all of the plant commodity tolerances in 40 CFR 180.111(a)(1) at this time, EPA is proposing that those specific tolerances which it is proposing to modify herein be redesignated from 40 CFR 180.111(a)(1) to 40 CFR 180.111(a)(2), where tolerances are currently established for malathion and its metabolite malaoxon. Also, in accordance with current Agency practice to describe more clearly the measurement and scope or coverage of the tolerances, EPA is proposing to revise the introductory text containing the tolerance expression in 40 CFR 180.111(a)(2) to read as set out in the proposed regulatory text at the end of this document.

Based on product label changes to their use patterns and available field trial data that showed malathion residues of concern in or on apricot as high as <0.65 ppm, avocado as high as <0.08 ppm, fig as high as <0.41 ppm, grape as high as 2.78 ppm, macadamia nut as high as <0.10 ppm, melon as high as <0.85 ppm, mushroom as high as <0.10 ppm, okra as high as <2.23 ppm, bulb onion as high as <0.60 ppm, green onion as high as 4.88 ppm, peach as high as <3.64 ppm, pear as high as 2.23 ppm, peppermint and spearmint tops as high as 1.43 ppm, EPA determined that the tolerances should be decreased from 8 to 1.0 ppm, 8 to 0.2 ppm, 8 to 1.0 ppm, 8 to 4.0, 1 to 0.2 ppm, 8 to 1.0 ppm, 8 to 0.2 ppm, 8 to 3.0 ppm, 8 to 1.0, 8 to 6.0, 8 to 6.0 ppm, 8 to 3.0 ppm, 8 to 2.0 ppm, and 8 to 2.0 ppm, respectively. Therefore, EPA is proposing to decrease the tolerances in 40 CFR 180.111(a)(1) for apricot, fig, melon, and onion, bulb to 1.0 ppm, avocado, mushroom, and nut, macadamia to 0.2 ppm, grape to 4.0 ppm, okra and pear to 3.0 ppm, onion, green and peach to 6.0 ppm, peppermint, tops and spearmint, tops to 2.0 ppm, and redesignate them to 40 CFR 180.111(a)(2).

Available residue data may be translated by the Agency from one commodity to another related commodity where appropriate (e.g., have similar use patterns). Based on their use patterns and the translation of apricot data to nectarine, bulb onion data to garlic, and green onion data to leek and shallot (data previously mentioned herein), EPA determined that the tolerances for nectarine, bulb garlic, leek, and bulb shallot should be decreased from 8 to 1.0 ppm, 8 to 1.0 ppm, 8 to 6 ppm, and 8 to 6 ppm, respectively. Therefore, EPA is proposing to decrease the tolerances in 40 CFR 180.111(a)(1) for nectarine and garlic, bulb to 1.0 ppm, and leek and shallot, bulb to 6.0 ppm, and redesignate them to 40 CFR 180.111(a)(2).

Based on their use patterns and the translation of melon data (data previously mentioned herein) to pumpkin and winter squash, EPA determined that the tolerances for pumpkin and winter squash should each be decreased from 8 to 1.0 ppm. Therefore, EPA is proposing to decrease the tolerances in 40 CFR 180.111(a)(1) for pumpkin; and squash, winter; each to 1.0 ppm, and redesignate them to 40 CFR 180.111(a)(2).

Based on its use pattern and available field trial data that showed malathion residues of concern in or on asparagus were as high as 1.38 ppm, EPA determined that the tolerance should be decreased from 8 to 2.0 ppm. Therefore, EPA is proposing to decrease the tolerance in 40 CFR 180.111(a)(1) for asparagus to 2.0 ppm, and redesignate it to 40 CFR 180.111(a)(2).

Based on their use patterns and available field trial data that showed malathion residues of concern in or on blackberry as high as 3.99 ppm and raspberry as high as 4.96 ppm, EPA determined that the tolerances should be decreased from 8 to 6 ppm and 8 to 6 ppm, respectively. Therefore, EPA is proposing to decrease the tolerances in 40 CFR 180.111(a)(1) for blackberry and raspberry to 6 ppm, and redesignate them to 40 CFR 180.111(a)(2).

Based on their use patterns and the translation of blackberry and/or raspberry data (data previously mentioned herein) to boysenberry, dewberry, gooseberry, and loganberry, EPA determined that the tolerances for boysenberry, dewberry, gooseberry, and loganberry should each be decreased from 8 to 6 ppm. Therefore, EPA is proposing to decrease the tolerances in 40 CFR 180.111(a)(1) for boysenberry, dewberry, gooseberry, and loganberry, each to 6 ppm, and redesignate them to 40 CFR 180.111(a)(2).

Based on their use patterns and available field trial data that showed malathion residues of concern in or on turnip greens as high as 3.40 ppm and turnip roots as high as <0.18 ppm, EPA determined that the tolerances should be decreased from 8 to 4.0 ppm and 8 to 0.5 ppm, respectively. Therefore, EPA is proposing to decrease the tolerances in 40 CFR 180.111(a)(1) for turnip, greens to 4.0 ppm and turnip, roots to 0.5 ppm, and redesignate them to 40 CFR 180.111(a)(2).

Based on their use patterns and the translation of turnip greens data (data previously mentioned herein) to garden beet tops and salsify tops, EPA determined that the tolerances for beet, garden, tops and salsify, tops; should each be decreased from 8 to 4.0 ppm. Therefore, EPA is proposing to decrease the tolerances in 40 CFR 180.111(a)(1) for beet, garden, tops; and salsify, tops; each to 4.0 ppm, and redesignate them to 40 CFR 180.111(a)(2).

Based on their use patterns and the translation of the turnip root data (data previously mentioned herein) to garden beet roots, horseradish, parsnip, radish, rutabaga, and salsify roots, EPA determined that the tolerances for beet, garden, roots; horseradish; parsnip; radish; rutabaga; and salsify, roots; should each be decreased from 8 to 0.5 ppm. Therefore, EPA is proposing to decrease the tolerances in 40 CFR 180.111(a)(1) for beet, garden, roots, horseradish; parsnip; radish; rutabaga; and salsify, roots; each to 0.5 ppm, and redesignate them to 40 CFR 180.111(a)(2).

Based on their use patterns and available field trial data that showed malathion residues of concern in or on potatoes as high as 0.05 ppm, and translation of that data to chayote roots and sweet potato roots, EPA determined that the tolerances should be decreased from 8 to 0.1 ppm for potato; chayote, roots; and sweet potato, roots. Therefore, EPA is proposing to decrease the tolerances in 40 CFR 180.111(a)(1) for potato; chayote, roots; and sweet potato, roots; each to 0.1 ppm, and redesignate them to 40 CFR 180.111(a)(2).

Based on their use patterns and cucumber data which showed malathion residues of concern as high as <0.11 ppm, and translation of that data to chayote fruit and summer squash, EPA determined that the tolerances for chayote fruit and summer squash should be decreased from 8 to 0.2 ppm. Therefore, EPA is proposing to decrease the tolerances in 40 CFR 180.111(a)(1) for chayote, fruit; and squash, summer; each to 0.2 ppm, and redesignate them to 40 CFR 180.111(a)(2).

Based on their use patterns and tomato data, which showed malathion residues of concern as high as 1.54 ppm, and translation of that data to eggplant, EPA determined that the tolerance for eggplant should be decreased from 8 to 2.0 ppm. Therefore, EPA is proposing to decrease the tolerance in 40 CFR 180.111(a)(1) for eggplant to 2.0 ppm, and redesignate it to 40 CFR 180.111(a)(2).

Based on their use patterns and available field trial data that showed malathion residues of concern in or on alfalfa and clover forage as high as 110.12 ppm and 120.14 ppm, respectively, and translation of that data to trefoil forage, EPA determined that the tolerances should be decreased from 135 to 125 ppm for alfalfa, clover, and trefoil forage. Also, based on its use pattern and available field trial data that showed malathion residues of concern in or on clover hay as high as 120.50 ppm, EPA determined that the tolerance should be decreased from 135 to 125 ppm. Therefore, EPA is proposing to decrease the tolerances in 40 CFR 180.111(a)(1) for alfalfa, forage; clover, forage; trefoil, forage; and clover, hay; each to 125 ppm; and redesignate them to 40 CFR 180.111(a)(2).

Based on its use pattern and available storage stability data that showed malathion residues of concern in or on carrots were as high as 0.54 ppm, EPA determined that the tolerance should be decreased from 8 to 1 ppm. Therefore, EPA is proposing to decrease the tolerance in 40 CFR 180.111(a)(1) for carrot, roots to 1 ppm, and redesignate it to 40 CFR 180.111(a)(2).

Based on their use patterns and available field trial data that showed malathion residues of concern in or on mango were as high as <0.12 ppm, passionfruit were as high as <0.12 ppm, pineapple were as high as 0.17 ppm, and walnuts were non-detectable (<0.10 ppm), EPA determined that the tolerances should each be decreased from 8 to 0.2 ppm. Also, based on their use patterns and the translation of walnut data to pecan, EPA determined that the pecan tolerance should be decreased from 8 to 0.2 ppm. Therefore, EPA is proposing to decrease the tolerances in 40 CFR 180.111(a)(1) for mango, passionfruit, pecan, pineapple, and walnut, each to 0.2 ppm, and redesignate them to 40 CFR 180.111(a)(2).

Based on their use patterns and available field trial data that showed malathion residues of concern in or on oranges as high as 1.91 ppm, and translation of that data to grapefruit, kumquat, lemon, lime, and tangerine, EPA determined that the tolerances should be decreased from 8 to 4.0 ppm for orange, grapefruit, kumquat, lemon, lime, and tangerine. Therefore, EPA is proposing to decrease the tolerances in 40 CFR 180.111(a)(1) for orange, grapefruit, kumquat, lemon, lime, and tangerine; each to 4.0 ppm, and redesignate them to 40 CFR 180.111(a)(2).

Based on their use patterns and dry bean data, which showed malathion residues of concern as high as 0.74 ppm, and translation of that data to lupin seed, EPA determined that the tolerance for lupin seed should be decreased from 8 to 2.0 ppm. Therefore, EPA is proposing to decrease the tolerance in 40 CFR 180.111(a)(1) for lupin, seed to 2.0 ppm, and redesignate it to 40 CFR 180.111(a)(2).

Based on its use pattern and available field trial data that showed malathion residues of concern in or on peppers as high as 0.09 ppm, EPA determined that the tolerance should be decreased from 8 to 0.5 ppm. Therefore, EPA is proposing to decrease the tolerance in 40 CFR 180.111(a)(1) for pepper to 0.5 ppm, and redesignate it to 40 CFR 180.111(a)(2).

6. Mancozeb. Based on label revisions and available field trial data that showed mancozeb residues as high as 0.738 ppm in or on wheat grain and 27.1 ppm in or on wheat straw, the Agency determined that the tolerances should be set at 1 ppm for wheat grain and 30 ppm for wheat straw, which when converted to carbon disulfide equivalents using a rounded conversion factor of 0.6X (based on relative molecular weights) is calculated as 0.6 ppm for grain and 18 ppm for straw. The Agency determined that data for wheat should be translated to barley, oat, and rye because of similar use patterns. In order to harmonize with Codex, EPA is proposing in 40 CFR 180.176(a) to decrease the tolerances on barley, grain; oat, grain; rye, grain; and wheat, grain; each to 1 ppm and to maintain the tolerance for wheat, straw at 25 ppm (as recommended in the RED) and therefore, also maintain the straw tolerances at 25 ppm for barley, oat, and rye.

Based on available processing data that showed mancozeb residues concentrated 2X in flour and 4X in wheat bran and shorts, and a highest average field trial (HAFT) of <0.748 ppm on the raw agricultural commodity (RAC), the Agency expected residues as high as 1.5 ppm for flour and 2.99 ppm for bran, and the Agency determined that the tolerances should be set at 2.0 ppm for flour and 3.0 ppm for bran and shorts, which when converted to carbon disulfide equivalents using a rounded conversion factor of 0.6X is calculated as 1.2 ppm for flour and 2 ppm for bran and shorts. The Agency determined that data for wheat should be translated to barley, oat, and rye because of similar use patterns. Therefore, EPA is proposing in 40 CFR 180.176(a) to decrease the tolerances on wheat, flour; barley, flour; and oat, flour; each to 1.2 ppm and also to establish a tolerance on rye, flour at 1.2 ppm; and decrease the tolerances on wheat, bran; barley, bran; rye, bran; and wheat, shorts; each to 2 ppm.

Based on sufficient data for wheat hay, where the field trial data showed mancozeb residues as high as 46.4 ppm, the Agency determined that the tolerance, in carbon disulfide equivalents, should be set at 30 ppm. No additional data for wheat hay have been received since the RED that would change that conclusion. (Although the Mancozeb RED stated that additional data for wheat hay were needed to establish a tolerance value, the Agency had received sufficient data prior to the RED to establish a tolerance value and no additional data are needed). The Agency determined that data for wheat hay should be translated to barley and oats because of similar use patterns. Therefore, EPA is proposing to establish tolerances in 40 CFR 180.176(a) on wheat, hay; barley hay; and oat, hay at 30 ppm.

Based on label revision and available field trial data that showed mancozeb residues were as high as 12.6 ppm in or on papaya, the Agency determined that the tolerance should be set at 15 ppm, which when converted to carbon disulfide equivalents using a rounded conversion factor of 0.6X is calculated as 9 ppm. Therefore, EPA is proposing to decrease the tolerance in 40 CFR 180.176(a) on papaya to 9 ppm.

Based on available field trial data that showed mancozeb residues were not detectable (<0.05 ppm) in or on field corn grain, the Agency determined that the tolerance should be set at 0.1 ppm, which when converted to carbon disulfide equivalents using a rounded conversion factor of 0.6X is calculated as 0.06 ppm. Therefore, EPA is proposing to decrease the tolerance in 40 CFR 180.176(a) on corn, field, grain to 0.06 ppm.

7. Mepiquat. Based on available data at an exaggerated feeding level of 7X the Maximum Theoretical Dietary Burden (MTDB) which showed mepiquat residues of concern in cattle meat, fat, and milk were below the limit of detection (<0.05 ppm), EPA determined that there is no reasonable expectation of finite mepiquat residues of concern in livestock meat and fat. The tolerances are no longer needed under 40 CFR 180.6(a)(3) and therefore should be revoked. Consequently, EPA is proposing to revoke the tolerances for mepiquat chloride in 40 CFR 180.384(a)(2) on cattle, fat; cattle, meat; goat, fat; goat, meat; hog, fat; hog, meat; horse, fat; horse, meat; sheep, fat; and sheep, meat.

In addition, EPA is proposing to combine the tolerance expressions for mepiquat in 40 CFR 180.384(a)(1) and mepiquat chloride in 40 CFR 180.384(a)(2) by measuring only mepiquat in newly designated 40 CFR 180.384(a). Also, in order to describe more clearly the measurement of residues for tolerances and coverage of metabolites and degradates of a pesticide by the tolerances, EPA is proposing to revise the introductory text in newly designated 40 CFR 180.384(a) to read as set out in the proposed regulatory text at the end of this document.

8. Oxamyl. In the Federal Register of January 11, 2012 (77 FR 1684) (FRL-9328-2), EPA announced its receipt of voluntary requests by registrants to amend certain pesticide registrations, including amendments to terminate the last oxamyl registrations for soybean use. In the Federal Register of April 11, 2012 (77 FR 21767) (FRL-9342-2), EPA published a cancellation order in follow-up to the January 11, 2012 notice and granted the requested amendments to terminate use of oxamyl on soybeans. Because the soybean use has not been included on oxamyl product labels since 2006, no existing stocks period is needed. Therefore, EPA is proposing to revoke the tolerance for oxamyl in 40 CFR 180.303(a) on soybean, seed.

9. Propetamphos. In the Federal Register of August 18, 2010 (75 FR 51053) (FRL-8840-3), EPA announced its receipt of voluntary requests by the registrant to cancel certain propetamphos registrations, which would terminate the last propetamphos products registered for use in the United States. In the Federal Register of December 30, 2010 (75 FR 82387) (FRL-8854-8), EPA published a cancellation order in follow-up to the August 18, 2010 notice which granted the requested product cancellations and prohibited the registrant from selling or distributing its propetamphos technical product after March 30, 2012 and end-use product until stocks are exhausted as described. Persons other than the registrant are allowed to sell, distribute, and use existing stocks of the end-use product until supplies are exhausted. EPA believes that existing stocks have been exhausted. Therefore, EPA is proposing to revoke the sole tolerance for propetamphos in 40 CFR 180.541, on food and feed commodities, and remove that section in its entirety.

10. Quizalofop ethyl. Because EPA no longer considers soybean soapstock to be a significant livestock feed item, the tolerance for quizalofop ethyl residues of concern is no longer needed and therefore should be revoked. Consequently, EPA is proposing to revoke the tolerance for quizalofop ethyl in 40 CFR 180.441(a)(1) on soybean, soapstock.

11. Spinosad. The existing tolerance for spinosad on coriander leaves was translated from the tolerance for vegetable, leafy, except brassica, group 4 at 8.0 ppm. The 2009 Calendar Year Pesticide Data Program (PDP) summary, available at http://www.ams.usda.gov/AMSv1.0/science, reported that spinosad residues were detected in two cilantro samples out of 184 samples. Residues ranged from 0.016 to 0.030 ppm. Because fresh coriander leaves are included in herb subgroup 19A, fresh and residues on coriander leaves do not exceed the herb subgroup 19A, fresh tolerance of 3.0 ppm, there is no longer any need for the separate tolerance on coriander leaves at 8.0 and therefore it should be revoked. Consequently, EPA is proposing to revoke the tolerance for spinosad in 40 CFR 180.495(a) on coriander, leaves.

12. Spiroxamine. In the Federal Register of September 7, 2011 (76 FR 55385) (FRL-8887-1), EPA announced its receipt of voluntary requests by registrants to cancel certain pesticide registrations, including the last registrations for use of spiroxamine on hops. In the Federal Register of May 23, 2012 (77 FR 30526) (FRL-9347-3), EPA published a cancellation order in follow-up to the September 7, 2011 notice and granted the requested product cancellations, including ones which terminated use of spiroxamine on hops. The cancellation order allowed registrants to sell and distribute existing stocks until May 23, 2013. EPA believes that existing stocks (with hops use) will be exhausted 1 year after May 23, 2013; i.e., by May 23, 2014. Therefore, EPA is proposing to revoke the tolerance for spiroxamine in 40 CFR 180.602(a) on hop, dried cones.

13. Thiram. Currently, tolerances for thiram are established in 40 CFR 180.132(a) for residues of the fungicide thiram (tetramethyl thiuram disulfide). Thiram is a member of the class of dithiocarbamates, whose decomposition releases a common moiety, carbon disulfide. In order to allow harmonization of U.S. tolerances with Codex MRLs, the Agency determined that for the purpose of tolerance enforcement, residues of thiram should be calculated as carbon disulfide. Therefore, EPA is proposing to revise the introductory text containing the tolerance expression in 40 CFR 180.132(a) to thiram residues convertible to and expressed in terms of the degradate carbon disulfide and also revise the tolerance expression in accordance with current Agency practice to describe more clearly the measurement and scope or coverage of the tolerances, to read as set out in the proposed regulatory text at the end of this document. Based on the revising of the tolerance expression to carbon disulfide, EPA determined that the thiram tolerances for apple and strawberry should be decreased from 7.0 to 5 ppm and 20 to 13 ppm, respectively, and the tolerance for banana should be increased from 0.80 to 2.0 ppm in order to harmonize with Codex. Also, in order to harmonize with Codex, EPA is maintaining the tolerance for peach at 7.0 ppm. (The Agency's determination is available in the docket of this proposed rule). Therefore, EPA is proposing in 40 CFR 180.132(a) to decrease the tolerances for apple to 5 ppm and strawberry to 13 ppm, and increase the tolerance for banana to 2.0 ppm. The Agency determined that the increased tolerance is safe; i.e., there is a reasonable certainty that no harm will result from aggregate exposure to the pesticide chemical residue.

14. Triflumizole. Because EPA no longer considers dry apple pomace, grape pomace, and grape raisin waste to be significant livestock feed items, the associated tolerances for triflumizole residues of concern are no longer needed and therefore should be revoked. Also, based on apple processing data that showed triflumizole residues of concern do not concentrate in wet apple pomace, the tolerance is no longer needed and should be revoked. Consequently, EPA is proposing to revoke the tolerances for triflumizole in 40 CFR 180.476(a)(1) on apple, dry pomace; apple, wet pomace; grape, dried pomace; grape, raisin, waste; and grape, wet pomace.

Also, because there are no longer any registered triflumizole uses associated with feed items for poultry and swine, tolerances for triflumizole residues of concern on swine and poultry are no longer needed and therefore should be revoked. Consequently, EPA is proposing to revoke the tolerances for triflumizole in 40 CFR 180.476(a)(2) on hog, fat; hog, meat; hog, meat byproducts; poultry, fat; poultry, meat; poultry, meat byproducts; and egg.

Based on available data at an exaggerated feeding level of 6X the MTDB which showed triflumizole residues of concern to be below the limit of quantitation (<0.05 ppm) and projected residues at 1X the MTDB in cattle meat and milk to be well below the limit of quantitation (<0.05 ppm), EPA determined that there is no reasonable expectation of finite triflumizole residues of concern in livestock meat and milk. These tolerances are no longer needed under 40 CFR 180.6(a)(3) and therefore should be revoked. Consequently, EPA is proposing to revoke the tolerances for triflumizole in 40 CFR 180.476(a)(2) on cattle, meat; goat, meat; horse, meat; sheep, meat; and milk.

In addition, based on available data at an exaggerated feeding level at 6X the MTDB which projected residues at 1X the MTDB in cattle fat, kidney, and liver to be <0.05 ppm, <0.10 ppm, and <0.10 ppm, respectively, EPA determined that the existing tolerances should be decreased. Consequently, EPA is proposing to decrease the tolerances for triflumizole in 40 CFR 180.476(a)(2) from 0.5 to 0.10 ppm on cattle, fat; goat, fat; horse, fat; and sheep, fat; and from 0.5 to 0.20 ppm on cattle, meat byproducts; goat, meat byproducts; horse, meat byproducts; and sheep, meat byproducts.

B. What is the agency's authority for taking this action?

A “tolerance” represents the maximum level for residues of pesticide chemicals legally allowed in or on raw agricultural commodities and processed foods. Section 408 of FFDCA, 21 U.S.C. 346a, authorizes the establishment of tolerances, exemptions from tolerance requirements, modifications in tolerances, and revocation of tolerances for residues of pesticide chemicals in or on raw agricultural commodities and processed foods. Without a tolerance or exemption, food containing pesticide residues is considered to be unsafe and therefore “adulterated” under FFDCA section 402(a), 21 U.S.C. 342(a). Such food may not be distributed in interstate commerce, 21 U.S.C. 331(a). For a food-use pesticide to be sold and distributed, the pesticide must not only have appropriate tolerances under the FFDCA, but also must be registered under FIFRA, 7 U.S.C. 136 et seq. Food-use pesticides not registered in the United States must have tolerances in order for commodities treated with those pesticides to be imported into the United States.

EPA is proposing certain specific tolerance actions to implement the tolerance recommendations made during the reregistration and tolerance reassessment processes (including follow-up on canceled or additional uses of pesticides). As part of these processes, EPA is required to determine whether each of the amended tolerances meets the safety standard of FFDCA. The safety finding determination is discussed in detail in each RED for the active ingredient. REDs recommend the implementation of certain tolerance actions, including modifications to reflect current use patterns, to meet safety findings, and change commodity names and groupings in accordance with new EPA policy. Printed and electronic copies of the REDs are available as provided in Unit II.A.

EPA has issued REDs for malathion and mancozeb. REDs contain the Agency's evaluation of the database for these pesticides, including requirements for additional data on the active ingredients to confirm the potential human health and environmental risk assessments associated with current product uses, and in REDs state conditions under which these uses and products will be eligible for reregistration. The REDs recommended the establishment, modification, and/or revocation of specific tolerances. RED and TRED recommendations such as establishing or modifying tolerances, and in some cases revoking tolerances, are the result of assessment under the FFDCA standard of “reasonable certainty of no harm.” However, tolerance revocations recommended in REDs that are proposed in this document do not need such assessment when the tolerances are no longer necessary.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under FFDCA section 408, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

When EPA establishes tolerances for pesticide residues in or on raw agricultural commodities, consideration must be given to the possible residues of those chemicals in meat, milk, poultry, and/or eggs produced by animals that are fed agricultural products (for example, grain or hay) containing pesticides residues (40 CFR 180.6). When considering this possibility, EPA can conclude that:

1. Finite residues will exist in meat, milk, poultry, and/or eggs.

2. There is a reasonable expectation that finite residues will exist.

3. There is a reasonable expectation that finite residues will not exist. If there is no reasonable expectation of finite pesticide residues in or on meat, milk, poultry, or eggs, tolerances do not need to be established for these commodities (40 CFR 180.6(b) and (c)).

EPA has evaluated certain specific meat, milk, poultry, and egg tolerances proposed for revocation in this document and has concluded that there is no reasonable expectation of finite pesticide residues of concern in or on those commodities.

C. When do these actions become effective?

EPA is proposing that the actions herein become effective 6 months after the date of publication of the final rule in the Federal Register. EPA is proposing this effective date for these actions to allow a reasonable interval for producers in exporting members of the World Trade Organization's (WTO's) Sanitary and Phytosanitary (SPS) Measures Agreement to adapt to the requirements of a final rule. EPA believes that treated commodities will have sufficient time for passage through the channels of trade. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by the Food Quality Protection Act (FQPA). Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint United Nations Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for carfentrazone-ethyl, mepiquat, propetamphos, quizalofop ethyl, spiroxamine, triflumizole, ethephon in or on cucumber, oxamyl in or on soybean seed, spinosad in or on coriander leaves, or total dithiocarbamates in or on barley bran, barley flour, field corn grain, oat flour, oat grain, rye bran, rye grain, wheat bran, wheat flour, and wheat, shorts.

The Codex has established MRLs for total dithiocarbamates determined as carbon disulfide in or on various commodities, including barley and wheat, each at 1 milligrams/kilogram (mg/kg). These MRLs are the same as the tolerances proposed for mancozeb in the United States.

The Codex has established MRLs for total dithiocarbamates determined as carbon disulfide in or on various commodities, including papaya at 5 mg/kg. This MRL is covered by a proposed U.S. tolerance at a higher level than the MRL. The MRL is different than the proposed U.S. tolerance for mancozeb in the United States because of differences in residue definition, use patterns, and/or good agricultural practices.

The Codex has established MRLs for malathion in or on various commodities, including onion, bulb at 1 milligrams/kilogram (mg/kg). This MRL is the same as the tolerance proposed for malathion in the United States.

The Codex has established MRLs for malathion in or on various commodities, including asparagus at 1 mg/kg and peppers at 0.1 mg/kg. These MRLs are covered by proposed U.S. tolerances at higher levels than the MRLs. These MRLs are different than the tolerances established for malathion in the United States because of differences in residue definition, use patterns, and/or good agricultural practices.

The Codex has established MRLs for malathion in or on citrus fruits at 7 mg/kg, grapes at 5 mg/kg, and turnip greens at 5 mg/kg. These MRLs are different than the tolerances proposed for malathion in the United States because of differences in residue definition, use patterns, and/or good agricultural practices.

The Codex has established a MRL for amitraz in or on various commodities, including cotton seed at 0.5 mg/kg. This MRL is covered by the current U.S. tolerance at a higher level than the MRL, but would no longer be covered due to the proposed revocation of the U.S. tolerance.

The Codex has established MRLs for total dithiocarbamates determined as carbon disulfide in or on various commodities, including banana at 2 mg/kg, peach at 7 mg/kg, and strawberry at 5 mg/kg. The MRLs for banana and peach are the same as the U.S. tolerances proposed for thiram in the United States. The MRL for strawberry is covered by a proposed U.S. tolerance at a higher level than the MRL. The MRL for strawberry is different than the tolerance proposed for thiram in the United States because of differences in use patterns, and/or good agricultural practices.

IV. Statutory and Executive Order Reviews

In this proposed rule, EPA is proposing to establish tolerances under FFDCA section 408(e), and also modify and revoke specific tolerances established under FFDCA section 408. The Office of Management and Budget (OMB) has exempted these types of actions (e.g., establishment and modification of a tolerance and tolerance revocation for which extraordinary circumstances do not exist) from review under Executive Order 12866, entitled “Regulatory Planning and Review” (58 FR 51735, October 4, 1993). Because this proposed rule has been exempted from review under Executive Order 12866 due to its lack of significance, this proposed rule is not subject to Executive Order 13211, entitled “Actions Concerning Regulations That Significantly Affect Energy Supply, Distribution, or Use” (66 FR 28355, May 22, 2001). This proposed rule does not contain any information collections subject to OMB approval under the Paperwork Reduction Act (PRA) (44 U.S.C. 3501 et seq.), or impose any enforceable duty or contain any unfunded mandate as described under Title II of the Unfunded Mandates Reform Act of 1995 (UMRA) (2 U.S.C. 1501 et seq.). Nor does it require any special considerations as required by Executive Order 12898, entitled “Federal Actions to Address Environmental Justice in Minority Populations and Low-Income Populations” (59 FR 7629, February 16, 1994); or OMB review or any other Agency action under Executive Order 13045, entitled “Protection of Children from Environmental Health Risks and Safety Risks” (62 FR 19885, April 23, 1997). This action does not involve any technical standards that would require Agency consideration of voluntary consensus standards pursuant to section 12(d) of the National Technology Transfer and Advancement Act of 1995 (NTTAA) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticide named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled “Federalism” (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This action does not alter the relationships or distribution of power and responsibilities established by Congress in the preemption provisions of FFDCA section 408(n)(4). For these same reasons, the Agency has determined that this proposed rule does not have any “tribal implications” as described in Executive Order 13175, entitled “Consultation and Coordination with Indian Tribal Governments” (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: June 24, 2014.
Jack Housenger,
Director, Office of Pesticide Programs.

Therefore, it is proposed that 40 CFR chapter I be amended as follows:

PART 180—[AMENDED]

1. The authority citation for part 180 continues to read as follows:

Authority: 21 U.S.C. 321(q), 346a and 371.

2. In § 180.111, revise the table in paragraph (a)(1) and revise paragraph (a)(2) to read as follows:

§ 180.111 Malathion; tolerances for residues.

(a) * * *

(1) * * *

Commodity | Parts per million
Alfalfa, hay | 135
Almond, hulls | 50
Almond, postharvest | 8
Apple | 8
Barley, grain, postharvest | 8
Bean, dry, seed | 8
Bean, succulent | 8
Beet, sugar, roots | 1
Beet, sugar, tops | 8
Blueberry | 8
Cherry | 8
Chestnut | 1
Corn, field, forage | 8
Corn, field, grain, postharvest | 8
Corn, pop, grain, postharvest | 8
Corn, sweet, forage | 8
Corn, sweet, kernel plus cob with husks removed | 2
Cowpea, forage | 135
Cowpea, hay | 135
Cranberry | 8
Cucumber | 8
Currant | 8
Date, dried fruit | 8
Flax, seed | 0.1
Guava | 8
Hazelnut | 1
Hop, dried cones | 1
Lentil, seed | 8
Lespedeza, hay | 135
Oat, grain, postharvest | 8
Papaya | 1
Pea | 8
Pea, field, hay | 8
Pea, field, vines | 8
Peanut, hay | 135
Peanut, postharvest | 8
Plum | 8
Plum, prune | 8
Quince | 8
Rice, grain, postharvest | 8
Rice, wild | 8
Rye, grain, postharvest | 8
Safflower, seed | 0.2
Sorghum, grain, forage | 8
Sorghum, grain, grain, postharvest | 8
Soybean, forage | 135
Soybean, hay | 135
Soybean, seed | 8
Soybean, vegetable, succulent | 8
Strawberry | 8
Sunflower, seed, postharvest | 8
Tomato | 8
Trefoil, hay | 135
Vegetable, brassica, leafy, group 5 | 8
Vegetable, leafy, except brassica, group 4 | 8
Vetch, hay | 135
Wheat, grain, postharvest | 8

(2) Tolerances are established for residues of the insecticide malathion, including its metabolites and degradates, in or on the commodities in the table in this paragraph. Compliance with the tolerance levels specified in this paragraph is to be determined by measuring only the sum of malathion (O,O-dimethyl dithiophosphate of diethyl mercaptosuccinate), and its metabolite malaoxon (O,O-dimethyl thiophosphate of diethyl mercaptosuccinate), in or on the commodity.

Commodity | Parts per million
Alfalfa, forage | 125
Apricot | 1.0
Asparagus | 2.0
Avocado | 0.2
Barley, straw | 50
Beet, garden, roots | 0.5
Beet, garden, tops | 4.0
Blackberry | 6
Boysenberry | 6
Carrot, roots | 1
Chayote, fruit | 0.2
Chayote, roots | 0.1
Clover, forage | 125
Clover, hay | 125
Corn, field, stover | 30.0
Cotton, undelinted seed | 20.0
Dewberry | 6
Eggplant | 2.0
Fig | 1.0
Garlic, bulb | 1.0
Gooseberry | 6
Grape | 4.0
Grapefruit | 4.0
Grass, forage | 200
Grass, hay | 270
Horseradish | 0.5
Kumquat | 4.0
Leek | 6.0
Lemon | 4.0
Lime | 4.0
Loganberry | 6
Lupin, seed | 2.0
Mango | 0.2
Melon | 1.0
Mushroom | 0.2
Nectarine | 1.0
Nut, macadamia | 0.2
Oat, forage | 4.0
Oat, straw | 50
Okra | 3.0
Onion, bulb | 1.0
Onion, green | 6.0
Orange | 4.0
Parsnip | 0.5
Passionfruit | 0.2
Peach | 6.0
Pear | 3.0
Pecan | 0.2
Pepper | 0.5
Peppermint, tops | 2.0
Pineapple | 0.2
Potato | 0.1
Pumpkin | 1.0
Radish | 0.5
Raspberry | 6
Rutabaga | 0.5
Rye, forage | 4.0
Rye, straw | 50
Salsify, roots | 0.5
Salsify, tops | 4.0
Shallot, bulb | 6.0
Spearmint, tops | 2.0
Squash, summer | 0.2
Squash, winter | 1.0
Sweet potato, roots | 0.1
Tangerine | 4.0
Trefoil, forage | 125
Turnip, greens | 4.0
Turnip, roots | 0.5
Walnut | 0.2
Watercress | 0.2
Wheat, forage | 4.0
Wheat, straw | 50

* * * * *

3. In § 180.132, revise paragraph (a) to read as follows:

§ 180.132 Thiram; tolerances for residues.

(a) General. Tolerances are established for residues of the fungicide thiram, tetramethyl thiuram disulfide, including its metabolites and degradates, in or on the commodities in the table in this paragraph. Compliance with the tolerance levels specified in this paragraph is to be determined by measuring only those thiram residues convertible to and expressed in terms of the degradate carbon disulfide, in or on the commodity.

Commodity | Parts per million | Expiration/ revocation date
Apple | 5 | None
Banana ¹ | 2.0 | 3/31/15
Peach | 7.0 | None
Strawberry | 13 | None
¹ There are no U.S. registrations as of September 23, 2009.

* * * * *

§ 180.142 [Amended]

4. In § 180.142, remove the entry for “Rice, straw” from the table in paragraph (a).

§ 180.169 [Amended]

5. In § 180.169, remove the entry for “Rice, straw” from the table in paragraph (a)(1).

6. In § 180.176, revise the table in paragraph (a) to read as follows:

§ 180.176 Mancozeb; tolerances for residues.

(a) * * *

Commodity | Parts per million
Almond | 0.1
Almond, hulls | 4
Apple | 0.6
Asparagus | 0.1
Atemoya | 3.0
Banana | 2
Barley, bran | 2
Barley, flour | 1.2
Barley, grain | 1
Barley, hay | 30
Barley, pearled barley | 20
Barley, straw | 25
Beet, sugar, dried pulp | 3.0
Beet, sugar, roots | 1.2
Beet, sugar, tops | 60
Broccoli | 7
Cabbage | 9
Canistel | 15.0
Cattle, kidney | 0.5
Cattle, liver | 0.5
Cherimoya | 3.0
Corn, field, forage | 40
Corn, field, grain | 0.06
Corn, field, stover | 15
Corn, pop, grain | 0.1
Corn, pop, stover | 40
Corn, sweet, forage | 70
Corn, sweet, kernel plus cob with husks removed | 0.1
Corn, sweet, stover | 40
Cotton, undelinted seed | 0.5
Crabapple | 0.6
Cranberry | 5
Custard apple | 3.0
Fennel | 2.5
Flax, seed | 0.15
Ginseng | 1.2
Goat, kidney | 0.5
Goat, liver | 0.5
Grape | 1.5
Hog, kidney | 0.5
Hog, liver | 0.5
Horse, kidney | 0.5
Horse, liver | 0.5
Lettuce, head | 3.5
Lettuce, leaf | 18
Mango | 15.0
Oat, flour | 1.2
Oat, grain | 1
Oat, groats/rolled oats | 20
Oat, hay | 30
Oat, straw | 25
Onion, bulb | 1.5
Papaya | 9
Peanut | 0.1
Peanut, hay | 65
Pear | 0.6
Pepper | 12
Potato | 0.2
Poultry, kidney | 0.5
Poultry, liver | 0.5
Quince | 0.6
Rice, grain | 0.06
Rye, bran | 2
Rye, flour | 1.2
Rye, grain | 1
Rye, straw | 25
Sapodilla | 15.0
Sapote, mamey | 15.0
Sapote, white | 15.0
Sheep, kidney | 0.5
Sheep, liver | 0.5
Sorghum, grain, forage | 0.15
Sorghum, grain, grain | 0.25
Sorghum, grain, stover | 0.15
Star apple | 15.0
Sugar apple | 3.0
Tangerine ¹ | 10
Tomato | 2.5
Vegetable, cucurbit, group 9 | 2.0
Walnut | 0.70
Wheat, bran | 2
Wheat, flour | 1.2
Wheat, germ | 20
Wheat, grain | 1
Wheat, hay | 30
Wheat, middlings | 20
Wheat, shorts | 2
Wheat, straw | 25
¹ There are no U.S. registrations for use of mancozeb on tangerine.

* * * * *

§ 180.205 [Amended]

7. In § 180.205, remove the entry for “Rice, straw” from the table in paragraph (a).

§ 180.274 [Amended]

8. In § 180.274, remove the entry for “Rice, straw” from the table in paragraph (a).

§ 180.287 [Amended]

9. In § 180.287, remove the entry for “Cotton, undelinted seed ¹” and the footnote from the table in paragraph (a).

§ 180.288 [Amended]

10. In § 180.288, remove the entry for “Rice, straw” from the table in paragraph (a).

§ 180.293 [Amended]

11. In § 180.293, remove the entry for “Rice, straw” from the table in paragraph (a)(1).

§ 180.300 [Amended]

12. In § 180.300, remove the entry for “Cucumber” from the table in paragraph (a).

§ 180.301 [Amended]

13. In § 180.301, remove the entry for “Rice, straw” from the table in paragraph (a).

§ 180.303 [Amended]

14. In § 180.303, remove the entry for “Soybean, seed” from the table in paragraph (a).

§ 180.355 [Amended]

15. In § 180.355, remove the entry for “Rice, straw” from the table in paragraph (a)(1).

§ 180.361 [Amended]

16. In § 180.361, remove the entry for “Rice, straw” from the table in paragraph (a).

§ 180.377 [Amended]

17. In § 180.377, remove the entry for “Rice, straw” from the table in paragraph (a)(2).

§ 180.383 [Amended]

18. In § 180.383, remove the entry for “Rice, straw” from the table in paragraph (a).

19. In § 180.384, revise paragraph (a) to read as follows:

§ 180.384 Mepiquat (N,N-dimethylpiperidinium); tolerances for residues.

(a) General. Tolerances are established for residues of the plant growth regulator mepiquat, including its metabolites and degradates, in or on the commodities in the table in this paragraph. Compliance with the tolerance levels specified in this paragraph is to be determined by measuring only mepiquat, N,N-dimethylpiperidinium, in or on the commodity.

Commodity | Parts per million
Cattle, meat byproducts | 0.1
Cotton, gin byproducts | 6.0
Cotton, undelinted seed | 2.0
Goat, meat byproducts | 0.1
Grape | 1.0
Grape, raisin | 5.0
Hog, meat byproducts | 0.1
Horse, meat byproducts | 0.1
Sheep, meat byproducts | 0.1

* * * * *

§ 180.399 [Amended]

20. In § 180.399, remove the entry for “Rice, straw” from the table in paragraph (a)(1).

§ 180.401 [Amended]

21. In § 180.401, remove the entry for “Rice, straw” from the table in paragraph (a).

§ 180.417 [Amended]

22. In § 180.417, remove the entry for “Rice, straw” from the table in paragraph (a)(1).

§ 180.418 [Amended]

23. In § 180.418, remove the entry for “Rice, straw” from the table in paragraph (a)(2).

§ 180.425 [Amended]

24. In § 180.425, remove the entry for “Rice, straw” from the table in paragraph (a).

§ 180.434 [Amended]

25. In § 180.434, remove the entry for “Rice, straw” from the table in paragraph (a).

§ 180.438 [Amended]

26. In § 180.438, remove the entry for “Rice, straw” from the table in paragraph (a)(1) and from the table in paragraph (a)(2).

§ 180.439 [Amended]

27. In § 180.439, remove the entry for “Rice, straw” from the table in paragraph (a).

§ 180.441 [Amended]

28. In § 180.441, remove the entry for “Soybean, soapstock” from the table in paragraph (a)(1).

§ 180.445 [Amended]

29. In § 180.445, remove the entry for “Rice, straw” from the table in paragraph (a).

§ 180.447 [Amended]

30. In § 180.447, remove the entry for “Rice, straw” from the table in paragraph (a)(2).

§ 180.451 [Amended]

31. In § 180.451, remove the entry for “Rice, straw” from the table in paragraph (a).

§ 180.463 [Amended]

32. In § 180.463, remove the entry for “Rice, straw” from the table in paragraph (a)(1).

§ 180.473 [Amended]

33. In § 180.473, remove the entry for “Rice, straw” from the table in paragraph (a).

34. In § 180.476, revise the table in paragraph (a)(1) and revise the table in paragraph (a)(2) to read as follows:

§ 180.476 Triflumizole; tolerances for residues.

(a) * * *

(1) * * *

Commodity | Parts per million
Berry, low growing, subgroup 13-07G, except cranberry | 2.0
Brassica, head and stem, subgroup 5A | 8.0
Brassica, leafy greens, subgroup 5B | 40
Canistel | 2.5
Cherry, sweet | 1.5
Cherry, tart | 1.5
Cilantro, leaves | 35
Fruit, pome, group 11-10 | 0.50
Fruit, small, vine climbing, except fuzzy kiwifruit, subgroup 13-07F | 2.5
Hazelnut | 0.05
Hop, dried cones | 50
Leafy greens subgroup 4A, except spinach | 35
Mango | 2.5
Papaya | 2.5
Pineapple | 4.0
Sapodilla | 2.5
Sapote, black | 2.5
Sapote, mamey | 2.5
Star apple | 2.5
Swiss chard | 18
Tomato | 1.5
Turnip, greens | 40
Vegetable, cucurbit, group 9 | 0.5

(2) * * *

Commodity | Parts per million
Cattle, fat | 0.10
Cattle, meat byproducts | 0.20
Goat, fat | 0.10
Goat, meat byproducts | 0.20
Horse, fat | 0.10
Horse, meat byproducts | 0.20
Sheep, fat | 0.10
Sheep, meat byproducts | 0.20

* * * * *

§ 180.479 [Amended]

35. In § 180.479, remove the entry for “Rice, straw” from the table in paragraph (a)(2).

§ 180.484 [Amended]

36. In § 180.484, remove the entry for “Rice, straw” from the table in paragraph (a).

§ 180.495 [Amended]

37. In § 180.495, remove the entry for “Coriander, leaves” from the table in paragraph (a).

§ 180.507 [Amended]

38. In § 180.507, remove the entry for “Rice, straw” from the table in paragraph (a)(1).

§ 180.515 [Amended]

39. In § 180.515, remove the entries for “Caneberry subgroup 13A,” “Cotton, hulls,” “Cotton, meal,” “Cotton, refined oil” and “Rice, straw” from the table in paragraph (a).

§ 180.517 [Amended]

40. In § 180.517, remove the entry for “Rice, straw” from the table in paragraph (a).

§ 180.541 [Removed]

41. Remove § 180.541.

§ 180.555 [Amended]

42. In § 180.555, remove the entry for “Rice, straw” from the table in paragraph (a).

§ 180.570 [Amended]

43. In § 180.570, remove the entry for “Rice, straw” from the table in paragraph (a)(2).

§ 180.577 [Amended]

44. In § 180.577, remove the entry for “Rice, straw” from the table in paragraph (a).

§ 180.602 [Amended]

45. In § 180.602, remove the entry for “Hop, dried cones” from the table in paragraph (a).

§ 180.605 [Amended]

46. In § 180.605, remove the entry for “Rice, straw” from the table in paragraph (a).

§ 180.625 [Amended]

47. In § 180.625, remove the entry for “Rice, straw” from the table in paragraph (a).

[FR Doc. 2014-16063 Filed 7-10-14; 8:45 am]

BILLING CODE 6560-50-P